DEPARTMENT OF COMMERCE

[I.D. 040700L2]

Submission For OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Socioeconomic Monitoring Program for the Florida Keys National Marine Sanctuary.

Form Number(s): None.

OMB Approval Number: None.

Type of Request: New collection.

Burden Hours: 725.

Number of Respondents: 788.

Avg Hours Per Response: 20 minutes to 10 hours depending on requirement.

Needs and Uses: The Management Plan for the Florida Keys National Marine Sanctuary (FKNMS) established 18 Sanctuary Preservation Areas (SPAs) and one Ecological Reserve (ER) that are “no take” zones. In creating these special zones, socioeconomic impact analyses, as well as other analyses, were done as required under the National Environmental Policy Act (NEPA). However, many of the benefits and costs identified in these analyses are speculative in nature and therefore an uncertainty about benefits and costs. In response to public concerns about the socioeconomic impacts of many of the FKNMS management plan and especially the “no take” zones, a socioeconomic element was included in the ecological monitoring program. The information collected will help monitor the financial performance of the commercial fishing operations that were displaced from the “no take” zones to test the hypotheses that there are short term losses and/or long term gains to commercial fishermen and monitor the use, perceptions of users as to quality of the SPAs and ERs, and changes in market and economic values associated with SPA and ER uses to test that user conflicts were resolved and/or that there would be both short term and long term gains to non-consumptive users and net gains to the local economy.

Affected Public: Individuals or households and businesses or other for-profit organizations.

Frequency: Annually.

Respondent's Obligation: Voluntary.

OMB Desk Officer: David Rostker, (202) 395-3897.

Copies of the above information collection proposal can be obtained by calling or writing Linda Engelmeier, DOC Forms Clearance Officer, (202) 482-3272, Department of Commerce, Room 5027, 14th and Constitution Avenue, NW, Washington, DC 20230 (or via the Internet at LEngelme@doc.gov).

Written comments and recommendations for the proposed information collection should be sent within 30 days of publication of this notice to David Rostker, OMB Desk Officer, Room 10202, New Executive Office Building, Washington, DC 20503.

Dated: April 4, 2000.
Linda Engelmeier,
Departmental Forms Clearance Officer, Office of the Chief Information Officer.

[FR Doc. 00-9121 Filed 4-12-00; 8:45 am]

BILLING CODE 3510-08-F